DEPARTMENT OF COMMERCE

International Trade Administration

2000 Overseas Trade Missions Private Sector Participants Recruitment and Selection

AGENCY: International Trade Administration, Department of Commerce.

ACTION: Notice.

SUMMARY: The Department of Commerce invites U.S. companies to participate in the following overseas trade missions. For a more complete description of the trade mission, obtain a copy of the mission statement from the Project Officer indicated below. The recruitment and selection of private sector participants for these missions will be conducted according to the Statement of Policy Governing Department of Commerce Overseas Trade Missions announced by Secretary Daley on March 3, 1997.

Clean Energy Trade Mission

Poland, Hungary and the Czech Republic

September 28-October 5, 2000

Recruitment closes August 5, 2000

For further information contact: Andy Collier, U.S. Department of Commerce, Tel: 202-482-0680, Fax: 202-482-3352, E-Mail: Andrew_Collier@ita.doc.gov.

Franchising Trade Mission

Malaysia, the Philippines, and South Korea

September 28-October 6, 2000

Recruitment closes August 15, 2000

For further information contact: Raj Dwivedy, U.S. Department of Commerce, Tel: 202-482-1135, Fax: 202-482-2669, E-Mail: Raj_Dwivedy@ita.doc.gov.

Medical Device Trade Mission to India

New Delhi, Chennai and Mumbai

February 4-11, 2001

Recruitment closes December 15, 2000

For further information contact: Michael Andrews, U.S. Department of Commerce Tel: 202-482-2795, Fax: 202-482-0975, E-Mail: Michael_Andrews@ita.doc.gov.

For further information contact Reginald Beckham, U.S. Department of Commerce. Tel: 202-482-5478, Fax: 202-482-1999.

Dated: June 22, 2000.
Tom Nisbet,
Director, Promotion Planning and Support Division, Office of Export Promotion Coordination.

[FR Doc. 00-16274 Filed 6-27-00; 8:45 am]

BILLING CODE 3510-DR-P